DEPARTMENT OF HOMELAND SECURITY

Border and Transportation Security; Notice to Nonimmigrant Aliens Subject To Be Enrolled in the United States Visitor and Immigrant Status Indicator Technology System (US-VISIT)

AGENCY: Border and Transportation Security Directorate, DHS.

ACTION: Notice.

SUMMARY: The Department of Homeland Security (DHS) has established the United States Visitor and Immigrant Status Indicator Technology Program (US-VISIT), an integrated, automated entry-exit system that records the arrival and departure of aliens; verifies aliens' identities; and authenticates aliens' travel documents through comparison of biometric identifiers. On January 5, 2004, DHS published a Notice in the Federal Register at 69 FR 482 designating 115 airports and 14 sea ports for inclusion in the US-VISIT program. US-VISIT was implemented at 115 airports and 14 sea ports on January 5, 2004 by Notice published in the Federal Register at 69 FR 482. In addition, pilot programs have been established at 15 air or sea ports to collect biometric information from certain aliens upon their departure from the United States.

This Notice identifies six new ports of entry for inclusion in the US-VISIT program at air and sea ports. This Notice also deletes two ports of entry that were inadvertently included in the January 5, 2004 Notice identifying air and sea ports of entry under US-VISIT. Further, this Notice deletes two ports that were included inadvertently in the exit pilot programs announced on August 3, 2004 at 69 FR 46556, replacing those ports with two airports to maintain the full number of fifteen exit pilot programs.

EFFECTIVE DATE: This Notice is effective August 20, 2004.

FOR FURTHER INFORMATION CONTACT: Michael Hardin, US-VISIT, Border and Transportation Security, Department of Homeland Security, 1616 Fort Myer Drive, 18th Floor, Arlington, VA 22209, telephone (202) 298-5200.

SUPPLEMENTARY INFORMATION:

What Is US-VISIT?

DHS established US-VISIT in accordance with several Congressional mandates requiring that DHS create an integrated, automated entry-exit system that records the arrival and departure of aliens; verifies aliens' identities; and authenticates aliens' travel documents through comparison of biometric identifiers. US-VISIT is part of a continuum of security measures that begins overseas when a person applies for a visa to travel to the United States and continues on through entry and exit at U.S. air and seaports and, eventually, at land border crossings. The US-VISIT program enhances the security of U.S. citizens and visitors by verifying the identity of aliens traveling into or departing from the United States. At the same time, the program facilitates legitimate travel and trade by leveraging technology and the evolving use of biometrics to expedite processing at U.S. borders.

The goals of the program are to:

• Enhance the security of U.S. citizens and visitors

• Facilitate legitimate travel and trade

• Ensure the integrity of the immigration system

• Safeguard the personal privacy of visitors

On January 5, 2004, DHS published an interim rule in the Federal Register at 69 FR 468 implementing the first phase of US-VISIT at air and sea ports of entry in the United States. The January 5, 2004 interim rule authorized the Secretary of DHS to:

• Require nonimmigrant aliens seeking admission pursuant to a nonimmigrant visa at an air or sea port of entry designated by Notice in the Federal Register to provide fingerprints, photograph(s), or other specified biometric identifiers at time of application for admission or at time of departure; and

• Establish pilot programs at up to fifteen air or sea ports of entry, designated through Notice in the Federal Register, through which the Secretary of DHS may require an alien admitted pursuant to a nonimmigrant visa who departs the United States from a designated air or sea port of entry to provide fingerprints, photograph(s), or other specified biometric identifiers, documentation of his or her immigration status in the United States, and such other evidence as may be requested to determine the alien's identity and whether he or she has properly maintained his or her status while in the United States.

On January 5, 2004, DHS published a Notice in the Federal Register at 69 FR 482, designating 115 airports and 14 sea ports for the collection of biometric data from certain aliens upon arrival to the United States under the US-VISIT program. Since January 5, 2004, aliens applying for admission pursuant to a nonimmigrant visa at any of the designated arrival air and sea ports have been required to submit fingerprints and photographs. The January 5, 2004 Notice also identified the Baltimore-Washington International Airport and Miami Seaport as ports designated under the exit pilot programs for the collection of biometric information from aliens departing from the United States.

On August 3, 2004, DHS published a Notice in the Federal Register at 69 FR 46556 designating thirteen additional ports for implementation of US-VISIT exit pilot programs. The Notice listed all 15 ports authorized to establish exit pilot programs under 8 CFR 215.8(a)(1).

What Does This Notice Do?

First, this Notice adds six ports of entry to the list of ports of entry designated under the US-VISIT program under the January 5, 2004 Notice. These six ports of entry are: Albany International Airport, New York; St. Petersburg/Clearwater International Airport, Florida; Port Everglades seaport, Florida; Andrews Air Force Base, Maryland; New York City seaport, New York; and Port Canaveral, Terminal 10, Florida. These ports are being added as they were originally intended to be part of the initial list of designated ports of entry published on January 5, 2004. Port Everglades, as a suboffice of the Miami seaport, has been collecting US-VISIT data since January, but DHS wishes to clarify all specific physical ports that are part of the US-VISIT program.

Second, this Notice eliminates two ports of entry that were erroneously listed in the January 5, 2004 Notice. Alfred Whitted Airport in St. Petersburg, Florida and the seaport in Jacksonville, Florida are deleted from the list of air and seaports collecting information under US-VISIT. US-VISIT was never deployed at either of these two ports.

Third, this Notice eliminates Agana International Airport (Agana, Guam) and McCarren International Airport (Las Vegas, Nevada) from the list of the fifteen ports designated for implementation of exit pilot programs under US-VISIT. These two airports were included inadvertently in the August 3, 2004 Notice. US-VISIT exit pilot programs have not been deployed at these two airports. In their place, this Notice adds Seattle/Tacoma International Airport (Washington) and Ft. Lauderdale/Hollywood Airport (Florida) to the list of ports included in the US-VISIT exit pilot programs.

The updated, complete lists of all ports of entry designated under US-VISIT are identified below.

DHS deletes one air and one sea port of entry from the list of ports published on January 5, 2004 at 69 FR 482.

The following ports are no longer designated for US-VISIT inspection at time of alien arrival under 8 CFR 235.1(d)(1): St. Petersburg, Florida (Alfred Whitted Airport); Jacksonville, Florida (sea port).

DHS deletes two air ports of entry from the list of ports published on August 3, 2004 at 69 FR 46566.

The following ports are no longer designated for US-VISIT inspection at time of alien departure under 8 CFR 215.8: Agana, Guam (Agana International Airport); Las Vegas, Nevada (McCarren International Airport).

DHS hereby designates the following ports of entry for inclusion in US-VISIT for the collection of information at the time of alien arrival pursuant to 8 CFR 235.1(d)(1):

Airports

Agana, Guam (Agana International Airport)

Aguadilla, Puerto Rico (Rafael Hernandez Airport)

Albuquerque, New Mexico (Albuquerque International Airport)

Anchorage, Alaska (Anchorage International Airport)

Andrews Air Force Base, Maryland

Albany, New York (Albany International Airport)

Aruba (Pre-Flight Inspection)

Atlanta, Georgia (William B. Hartsfield International Airport)

Austin, Texas (Austin Bergstrom International Airport)

Baltimore, Maryland (Baltimore/Washington International Airport)

Bangor, Maine (Bangor International Airport)

Bellingham, Washington (Bellingham International Airport)

Boston, Massachusetts (General Edward Lawrence Logan International Airport)

Brownsville, Texas (Brownsville/South Padre Island Airport)

Buffalo, New York (Greater Buffalo International Airport)

Calgary, Canada (Pre-Flight Inspection)

Chantilly, Virginia (Washington Dulles International Airport)

Charleston, South Carolina (Charleston International Airport)

Charlotte, North Carolina (Charlotte/Douglas International Airport)

Chicago, Illinois (Chicago Midway Airport)

Chicago, Illinois (Chicago O'Hare International Airport)

Cincinnati, Ohio (Cincinnati/Northern Kentucky International Airport)

Cleveland, Ohio (Cleveland Hopkins International Airport)

Columbus, Ohio (Rickenbacker International Airport)

Columbus, Ohio (Port Columbus International Airport)

Dallas/Fort Worth, Texas (Dallas/Fort Worth International Airport)

Del Rio, Texas (Del Rio International Airport)

Denver, Colorado (Denver International Airport)

Detroit, Michigan (Detroit Metropolitan Wayne County Airport)

Dover/Cheswold, Delaware (Delaware Airpark)

Dublin, Ireland (Pre-Flight Inspection)

Edmonton, Canada (Pre-Flight Inspection)

El Paso, Texas (El Paso International Airport)

Erie, Pennsylvania (Erie International Airport)

Fairbanks, Alaska (Fairbanks International Airport)

Fajardo, Puerto Rico (Diego Jimenez Torres Airport)

Fort Lauderdale, Florida (Fort Lauderdale Executive Airport)

Fort Lauderdale, Florida (Fort Lauderdale/Hollywood International Airport)

Fort Myers, Florida (Fort Myers International Airport)

Freeport, Bahamas (Pre-Flight Inspection)

Greenville, South Carolina (Donaldson Center Airport)

Hamilton, Bermuda (Pre-Flight Inspection)

Hartford/Springfield, Connecticut (Bradley International Airport)

Honolulu, Hawaii (Honolulu International Airport)

Houston, Texas (Houston International Airport)

Indianapolis, Indiana (Indianapolis International Airport)

International Falls, Minnesota (Falls International Airport)

Isla Grande, Puerto Rico (Isla Grande Airport)

Jacksonville, Florida (Jacksonville International Airport)

Juneau, Alaska (Juneau International Airport)

Kansas City, Kansas (Kansas City International Airport)

Kenmore, Washington (Kenmore Air Harbor)

Key West, Florida (Key West International Airport)

King County, Washington (King County International Airport)

Kona, Hawaii (Kona International Airport)

Laredo, Texas (Laredo International Airport and Laredo Private Airport)

Las Vegas, Nevada (McCarren International Airport)

Los Angeles, California (Los Angeles International Airport)

Manchester, New Hampshire (Manchester Airport)

Mayaguez, Puerto Rico (Eugenio Maria de Hostos Airport)

McAllen, Texas (McAllen Miller International Airport)

Memphis, Tennessee (Memphis International Airport)

Miami, Florida (Kendall/Tamiami Executive Airport)

Miami, Florida (Miami International Airport)

Milwaukee, Wisconsin (General Mitchell International Airport)

Minneapolis/St. Paul, Minnesota (Montreal, Canada (Pre-Flight Inspection))

Nashville, Tennessee (Nashville International Airport)

Nassau, Bahamas (Pre-Flight Inspection)

New Orleans, Louisiana (New Orleans International Airport)

New York, New York (John F. Kennedy International Airport)

Newark, New Jersey (Newark International Airport)

Norfolk, Virginia (Norfolk International Airport and Norfolk Naval Air Station)

Oakland, California (Metropolitan Oakland International Airport)

Ontario, California (Ontario International Airport)

Opa Locka/Miami, Florida (Opa Locka Airport)

Orlando, Florida (Orlando International Airport)

Orlando/Sanford, Florida (Orlando/Sanford Airport)

Ottawa, Canada (Pre-Flight Inspection)

Philadelphia, Pennsylvania (Philadelphia International Airport)

Phoenix, Arizona (Phoenix Sky Harbor International Airport)

Pittsburgh, Pennsylvania (Pittsburgh International Airport)

Ponce, Puerto Rico (Mercedita Airport)

Portland, Maine (Portland International Jetport Airport)

Portland, Oregon (Portland International Airport)

Portsmouth, New Hampshire (Pease International Tradeport Airport)

Providence, Rhode Island (Theodore Francis Green State Airport)

Raleigh/Durham, North Carolina (Raleigh/Durham International Airport)

Reno, Arizona (Reno/Tahoe International Airport)

Richmond, Virginia (Richmond International Airport)

Sacramento, California (Sacramento International Airport)

Salt Lake City, Utah (Salt Lake City International Airport)

San Antonio, Texas (San Antonio International Airport)

San Diego, California (San Diego International Airport)

San Francisco, California (San Francisco International Airport)

San Jose, California (San Jose International Airport)

San Juan, Puerto Rico (Luis Munoz Marin International Airport)

Sandusky, Ohio (Griffing Sandusky Airport)

Sarasota/Bradenton, Florida (Sarasota-Bradenton International Airport)

Seattle, Washington (Seattle/Tacoma International Airport)

Shannon, Ireland (Pre-Flight Inspection)

Spokane, Washington (Spokane International Airport)

St. Croix, Virgin Island (Alexander Hamilton International Airport)

St. Louis, Missouri (St. Louis International Airport)

St. Lucie, Florida (St. Lucie County International Airport)

St. Petersburg, Florida (St. Petersburg-Clearwater International Airport)

St. Thomas, Virgin Island (Cyril E. King International Airport)

Tampa, Florida (Tampa International Airport)

Teterboro, New Jersey (Teterboro Airport)

Toronto, Canada (Pre-Flight Inspection)

Tucson, Arizona (Tucson International Airport)

Vancouver, Canada (Pre-Flight Inspection)

Victoria, Canada (Pre-Flight Inspection)

West Palm Beach, Florida (Palm Beach International Airport)

Wilmington, North Carolina (Wilmington International Airport)

Winnipeg, Canada (Pre-Flight Inspection)

Yuma, Arizona (Yuma International Airport).

Seaports

Long Beach, California

Miami, Florida

New York City

Port Everglades, Florida

Port Canaveral, Florida

Port Canaveral, Florida (Terminal 10)

San Juan, Puerto Rico

San Pedro, California

Seattle, Washington (Cruise Terminal)

Seattle, Washington

Tampa, Florida (Terminal 3)

Tampa, Florida (Terminal 7)

Vancouver, Canada (Ballantyne Pier)

Vancouver, Canada (Canada Place)

Victoria, Canada (Pre Inspection)

West Palm Beach, Florida.

DHS hereby designates the following ports of entry for inclusion in US-VISIT for the collection of information at the time of departure pursuant to 8 CFR 215.8.

Airports

Baltimore, MD (Baltimore/Washington International Airport)

Newark, New Jersey (Newark International Airport)

Atlanta, Georgia (William B. Hartsfield International Airport)

Chicago, Illinois (O'Hare International Airport)

Philadelphia, Pennsylvania (Philadelphia International Airport)

Dallas/Fort Worth, Texas (Dallas/Fort Worth International Airport)

Detroit, Michigan (Detroit Metropolitan Wayne County Airport)

San Juan, Puerto Rico (Luis Muñoz Marin International Airport)

Phoenix, Arizona (Phoenix Sky Harbor International Airport)

San Francisco, California (San Francisco International Airport)

Seattle, Washington (Seattle/Tacoma International Airport))

Ft. Lauderdale, Florida (Ft. Lauderdale/Hollywood International Airport)

Denver, Colorado (Denver International Airport).

The US-VISIT System Is Maintained Consistent With Privacy and Due Process Principles

As discussed in the January 5, 2004 interim rule, US-VISIT records will be protected consistent with all applicable privacy laws, regulations and US-VISIT's Privacy Policy dated January 16, 2004, which can be found at 69 FR 2608. Those seeking additional information, including nonimmigrant aliens who wish to contest or seek a change of their records, should direct a written request to the US-VISIT Program Office at the following address: Steve Yonkers, Privacy Officer, US-VISIT, Border and Transportation Security, Department of Homeland Security, Washington, DC 20528. Phone (202) 927-5200. Fax (202) 298-5201. E-mail: USVISITPrivacy@DHS.GOV. The request should include the requestor's full name, current address and date of birth, and a detailed explanation of the change sought. If the matter cannot be resolved by the Privacy Officer, further appeal for resolution may be made to the DHS Privacy Officer at the following address: Nuala O'Connor Kelly, Chief Privacy Officer, U.S. Department of Homeland Security, Washington, DC 20528, telephone (202) 282-8000, facsimile (202) 772-5036. Please see the January 5, 2004 interim rule at 69 FR 468 for more information about the US-VISIT privacy policy.

Dated: August 18, 2004.
Tom Ridge,
Secretary of Homeland Security.

[FR Doc. 04-19240 Filed 8-19-04; 8:45 am]

BILLING CODE 4410-10-P